DEPARTMENT OF THE INTERIOR

Fish and Wildlife Service

Notice of Availability To Extend a Section 10(a)(1)(B) Permit for Incidental Take of the Houston Toad and Bald Eagle During the Construction and Occupation of Single-Family Residences or Other Similar Structures Within 46 Subdivisions (46 Subdivisions) in Bastrop County, TX

AGENCY: U.S. Fish and Wildlife Service, Interior.

ACTION: Notice of availability.

SUMMARY: The U.S. Fish and Wildlife Service (Service) proposes to extend permits TE-025997-2 and TE-025965-2 (permits) associated with the 46-Subdivision Environmental Assessment/Habitat Conservation Plan (EA/HCP) for two additional years from the date of reissuance, pursuant to Section 10(a)(1)(B) of the Endangered Species Act (Act) of 1973, as amended. The existing permits cover both direct and indirect incidental take of the Houston toad (Bufo houstonensis) and Bald eagle (Haliaeetus leucocephalus) during the construction and occupation of single-family residences or other similar structures within the 46 subdivisions listed in the HCP. The current permit will expire on July 27, 2006.

DATES: To ensure consideration, written comments must be received on or before September 13, 2006.

ADDRESSES: Persons wishing to review the EA/HCP may obtain a copy by contacting Clayton Napier, U.S. Fish and Wildlife Service, 10711 Burnet Road, Suite 200, Austin, Texas 78758 (512/490-0057). Documents will be available for public inspection by written request, by appointment only, during normal business hours (8 a.m. to 4:30 p.m.) at the Service's Austin office. Written data or comments concerning the extension of the permits should be submitted to the Supervisor, U.S. Fish and Wildlife Service, 10711 Burnet Road, Suite 200, Austin, Texas 78758. Please refer to permit number TE-025997 and TE-025965 when submitting comments. All comments received, including names and addresses, will become a part of the official administrative record and may be made available to the public.

FOR FUTHER INFORMATION CONTACT: Clayton Napier at U.S. Fish and Wildlife Service, 10711 Burnet Road, Suite 200, Austin, Texas 78758 (512/490-0057) or by e-mail, Clayton_Napier@fws.gov.

SUPPLEMENTARY INFORMATION: The Service proposes to extend permits TE-025997-2 and TE-025965-2 for an additional two years from the date of signature on the re-issued permit. The EA/HCP allows for the construction of single family residences or other similar structures, as long as the action on the property disturbs no more than approximately 0.5 acres of habitat within each eligible lot. The EA/HCP will allow for responsible development while minimizing and offsetting impacts to the Houston toad and bald eagle by providing for on-site and off-site conservation measures that will be used to promote the long-term survival of the species. It is also considered to provide the most simplified, expeditious, and effective process by which landowners can comply with the provisions of the Act in a more efficient manner. The revised EA/HCP requires the same avoidance, minimization, and mitigation efforts from every lot owner, within their respective category.

Section 9 of the Act prohibits the “taking” of endangered species such as the Houston toad. However, the Service, under limited circumstances, may issue permits to take endangered wildlife species incidental to, and not the purpose of, otherwise lawful activities.

We provide this notice under section 10(c) of the Act (16 U.S.C. 1531 et seq.) and its implementing regulations (50 CFR 17.22), and the National Environmental Policy Act (42 U.S.C. 4371 et seq.) and its implementing regulations (40 CFR 1506.6).

Applicant: Each applicant's project will permanently disturb a maximum of 0.5 acres of Houston toad habitat within one of the 46 subdivisions. Each applicant will compensate for incidental take of the Houston toad by providing funds to the National Fish and Wildlife Foundation for the specific purpose of land acquisition, protection, and management within Houston toad habitat, as identified by the Service.

Benjamin N. Tuggle,
Acting Regional Director, Region 2, Albuquerque, New Mexico.

[FR Doc. E6-13240 Filed 8-11-06; 8:45 am]

BILLING CODE 4510-55-P